DEPARTMENT OF AGRICULTURE

Agricultural Research Service

Request for Nominations to the Advisory Committee on Biotechnology and 21st Century Agriculture

AGENCY: Office of the Under Secretary, Research, Education, and Economics.

ACTION: Notice of request for nominations to the Advisory Committee on Biotechnology and 21st Century Agriculture.

SUMMARY: The Secretary of Agriculture requests nominations for qualified persons to serve as members of the Advisory Committee on Biotechnology and 21st Century Agriculture (AC21).

DATES: Written nominations must be received by fax or postmarked on or before April 18, 2011.

ADDRESSES: All nomination materials should be sent to Michael Schechtman, Designated Federal Official, Office of the Secretary, USDA, 202B Jamie L. Whitten Federal Building, 14th and Independence Avenue, SW., Washington, DC 20250. Forms may also be submitted by fax to (202) 690-4265, if they are followed by written copies.

FOR FURTHER INFORMATION CONTACT: Questions should be addressed to Michael Schechtman, Designated Federal Official, telephone (202) 720-3817; fax (202) 690-4265; e-mail AC21@ars.usda.gov. To obtain form AD-755 ONLY please contact Dianne Fowler, Office of Pest Management Policy, telephone (202) 720-4074, fax (202) 720-3191; e-mail dianne.fowler@ars.usda.gov.

SUPPLEMENTARY INFORMATION: Advisory Committee Purpose: USDA supports the responsible development and application of biotechnology within the global food and agricultural system. Biotechnology intersects many of the policies, programs and functions of USDA. The charge for the AC21 is two-fold: To examine the long-term impacts of biotechnology on the U.S. food and agriculture system and USDA; and to provide guidance to USDA on pressing individual issues, identified by the Office of the Secretary, related to the application of biotechnology in agriculture. The AC21 will meet in Washington, DC, up to four (4) times per year.

Membership: Under the AC21 Charter, members of the AC21 will be knowledgeable in one or more of the following areas: recombinant-DNA (rDNA) research and applications using plants; rDNA research and applications using animals; rDNA research and applications using microbes; food science; silviculture and related forest science; fisheries science; ecology; veterinary medicine; the broad range of farming or agricultural practices; weed science; entomology; nematology; plant pathology; biodiversity; applicable laws and regulations relevant to agricultural biotechnology policy; risk assessment; consumer advocacy and public attitudes; public health/epidemiology; ethics, including bioethics; human medicine; biotechnology industry activities and structure; intellectual property rights systems; and international trade. Members will be selected by the Secretary of Agriculture in order to achieve a balanced representation of viewpoints to address effectively USDA biotechnology policy issues under consideration.

It is envisioned that the immediate upcoming work of the AC21 will concentrate on providing practical recommendations to the Secretary of Agriculture on ways to strengthen coexistence among different agricultural crop production methods. One specific focus will be on mechanisms that might be employed to help the market balance risks and rewards in different production sectors. Accordingly, Committee membership will concentrate on areas most relevant to those deliberations.

Nominations for AC21 membership must be in writing and provide the appropriate background documents required by USDA policy, including background disclosure form AD-755. Neither the form nor the information it contains may be released to the public, except as authorized by law.

No member may serve on the AC21 for more than six consecutive years. Nominees will initially serve for terms of 1 or 2 years for purposes of continuity. Previous AC21 members who wish again to be considered for membership must resubmit the full package of materials described under Submitting Nominations below.

Members of the AC21 and its subcommittees shall serve without pay, but with reimbursement of travel expenses and per diem for attendance at AC21 and subcommittee functions for those AC21 members who require assistance in order to attend the meetings. While away from home or their regular place of business, those members will be eligible for travel expenses paid by REE, USDA, including per diem in lieu of subsistence, at the same rate as a person employed intermittently in the government service is allowed under Section 5703 of Title 5, United States Code.

Submitting Nominations: Nominations should be typed and include the following:

1. A brief summary of no more than two (2) pages explaining the nominee's suitability to serve on the AC21.

2. A resume or curriculum vitae.

3. A completed copy of form AD-755.

Nominations should be sent to Michael Schechtman at the address listed above, and be post marked no later than April 18, 2011.

To ensure that recommendations of the task force take into account the needs of underserved and diverse communities served by USDA, membership will include, to the extent practicable, individuals representing minorities, women, and persons with disabilities. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2600 (voice and TDD). USDA is an equal opportunity provider and employer.

Dated: March 10, 2011.
Catherine E. Woteki,
Under Secretary for Research, Education and Economics.

[FR Doc. 2011-6361 Filed 3-17-11; 8:45 am]

BILLING CODE 3410-03-P